DEPARTMENT OF AGRICULTURE

Natural Resources Conservation Service

Request for Nominations to the Task Force on Agricultural Air Quality Research

AGENCY: Natural Resources Conservation Service, USDA.

ACTION: Notice of request for nominations to the Task Force on Agricultural Air Quality Research.

SUMMARY: The Secretary of Agriculture invites nominations of qualified candidates to be considered for a 2-year term on the Task Force on Agricultural Air Quality Research, typically referred to as the Agricultural Air Quality Task Force (AAQTF), established by the Federal Agriculture Improvement and Reform Act of 1996 to provide recommendations to the Secretary of Agriculture on agricultural air quality issues. This notice solicits nominations for membership to AAQTF.

DATES: Nominations due: We will consider nominations that are postmarked by May 8, 2023.

ADDRESSES: Submit nominations to Greg Zwicke, Designated Federal Officer, Department of Agriculture, Natural Resources Conservation Service, West National Technology Support Center, 2150 Centre Avenue, Building A, Suite 314B, Fort Collins, CO 80526; or send by email to: Greg.Zwicke@usda.gov.

FOR FURTHER INFORMATION CONTACT: Greg Zwicke; telephone: (970) 295-5621; email: Greg.Zwicke@usda.gov.

SUPPLEMENTARY INFORMATION:

AAQTF Purpose

Section 391 of the Federal Agriculture Improvement and Reform Act of 1996 (Pub. L. 104-127, 7 U.S.C. 5405) requires the Chief of the Natural Resources Conservation Service (NRCS) to establish a task force to address agricultural air quality issues. AAQTF advises the Secretary of Agriculture on the role of the Secretary for providing oversight and coordination related to agricultural air quality.

The requirements of the Federal Advisory Committee Act, 5 U.S.C. 10., apply to AAQTF.

AAQTF will:

1. Strengthen vital research efforts related to agricultural air quality;

2. Determine the extent to which agricultural activities contribute to air pollution;

3. Determine cost-effective ways in which the agricultural industry can improve air quality;

4. Coordinate and ensure intergovernmental cooperation on research activities related to agricultural air quality issues to avoid duplication, and ensure data quality and sound interpretation of data; and

5. Advise the Secretary of Agriculture with the information to provide oversight and coordination related to agricultural air quality.

AAQTF Membership

USDA expects AAQTF to meet two to three times each year, with meetings held at various locations across the United States. AAQTF members will serve for a term of 2 years, starting with the date of appointment to AAQTF. The Chief of NRCS serves as Chair of AAQTF. AAQTF is composed of members representing a broad spectrum of individuals with interest and expertise in agricultural air quality issues. This includes, but is not limited to, agricultural producers, representatives from the agricultural production and processing sector, as well as those from academia, agribusiness, regulatory organizations, environmental organizations, and local or State agencies.

Nominees to AAQTF will be evaluated on a number of criteria, including expertise in or experience with agricultural air quality research, agricultural production, and air quality environmental or regulatory issues.

Serving as an AAQTF member will not constitute employment by, or the holding of, an office of the United States for the purpose of any Federal law. Persons selected for membership on AAQTF will not receive compensation from NRCS for their service, except while away from home or regular place of business, members will be eligible for travel expenses paid by NRCS, including per diem in lieu of subsistence, at the same rate as a person employed intermittently in the government service, under 5 U.S.C. 5703.

Additional information about AAQTF is available at: https://www.nrcs.usda.gov/conservation-basics/natural-resource-concerns/air.

Member Nominations

Any interested person or organization may nominate qualified individuals for membership. Interested candidates may nominate themselves. Previous nominees and AAQTF members who wish to be considered for membership on AAQTF must submit a new nomination with updated information, including a new background disclosure form (Form AD-755).

Nominations should be typed and include the following:

1. A brief summary, no more than two pages, explaining the nominee's qualifications to serve on AAQTF and addressing the criteria described above.

2. A resume providing the nominee's background, experience, and educational qualifications.

3. A completed background disclosure form (Form AD-755) signed by the nominee. The form is available on-line at: https://www.usda.gov/sites/default/files/documents/ad-755.pdf.

4. Any recent publications by the nominee relative to air quality (if appropriate).

5. Letter(s) of endorsement (optional).

Send nominations to Greg Zwicke, Designated Federal Officer, Department of Agriculture, Natural Resources Conservation Service, West National Technology Support Center, 2150 Centre Avenue, Building A, Suite 314B, Fort Collins, CO 80526; or email to Greg.Zwicke@usda.gov. The Designated Federal Officer will acknowledge receipt of nominations.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) or dial 711 for Telecommunications Relay Service (both voice and text telephone users can initiate this call from any telephone). Additionally, program information may be made available in languages other than English.

Equal opportunity practices in accordance with USDA's policies, will be followed in all appointments to AAQTF. To ensure that the recommendations of AAQTF have taken into account the needs of the diverse groups served by USDA, membership will include to the extent possible, individuals with demonstrated ability to represent minorities, women, and person with disabilities.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Dated: February 28, 2023.
Cikena Reid,
USDA Committee Management Officer.

[FR Doc. 2023-04703 Filed 3-6-23; 8:45 am]

BILLING CODE 3410-16-P